DEPARTMENT OF TRANSPORTATION

Federal Aviation Administration

14 CFR Part 39

[Docket No. 2000-CE-22-AD; Amendment 39-12223; AD 2001-09-16]

RIN 2120-AA64

Airworthiness Directives; Eagle Aircraft Pty. Ltd. Model 150B Airplanes

AGENCY: Federal Aviation Administration, DOT.

ACTION: Final rule.

SUMMARY: This amendment adopts a new airworthiness directive (AD) that applies to certain Eagle Aircraft Pty. Ltd. (Eagle) Model 150B airplanes. This AD requires you to inspect the rudder cables for fraying, broken strands, etc. (referred to as damage), and replace any damaged cables. This AD also requires you to replace the rudder cable pulleys with larger diameter pulleys to eliminate the possibility of further damage. This AD is the result of mandatory continuing airworthiness information (MCAI) issued by the airworthiness authority for Australia. The actions specified by this AD are intended to detect and correct damaged rudder cables caused by chafing of the cable against the pulleys. Continued airplane operation with damaged cables could result in rudder cable system failure with possible loss of airplane control.

DATES: This AD becomes effective on June 29, 2001.

The Director of the Federal Register approved the incorporation by reference of certain publications listed in the regulations as of June 29, 2001.

ADDRESSES: You may get the service information referenced in this AD from Eagle Aircraft Pty. Ltd., Lot 700 Cockburn Road, Henderson WA 6166 Australia; telephone: (08) 9410 1077; facsimile: (08) 9410 2430. You may examine this information at the Federal Aviation Administration (FAA), Central Region, Office of the Regional Counsel, Attention: Rules Docket No. 2000-CE-22-AD, 901 Locust, Room 506, Kansas City, Missouri 64106; or at the Office of the Federal Register, 800 North Capitol Street, NW., suite 700, Washington, DC.

FOR FURTHER INFORMATION CONTACT: Fredrick A. Guerin, Aerospace Engineer, FAA, Los Angeles Aircraft Certification Office, 3960 Paramount Boulevard, Lakewood, California 90712; telephone: (562) 627-5232; facsimile: (562) 627-5210.

SUPPLEMENTARY INFORMATION:

Discussion

What Events Have Caused This AD?

The Civil Aviation Safety Authority (CASA), which is the airworthiness authority for Australia, notified FAA that an unsafe condition may exist on certain Eagle Model 150B airplanes. The CASA reports an occurrence where frayed rudder cables were found on an Eagle Model 150B airplane. Further investigation reveals that the diameter of the rudder cable pulleys is too small and cables rub against these pulleys.

What Are the Consequences If the Condition Is Not Corrected?

Continued airplane operation with damaged cables could result in rudder cable system failure with possible loss of airplane control.

Has FAA Taken Any Action To This Point?

We issued a proposal to amend part 39 of the Federal Aviation Regulations (14 CFR part 39) to include an AD that would apply to certain Eagle Model 150B airplanes. This proposal was published in the Federal Register as a notice of proposed rulemaking (NPRM) on January 2, 2001 (66 FR 59). The NPRM proposed to require you to:

—Inspect the rudder cables for fraying, broken strands, etc. (referred to as damage), and replace any damaged cables; and

—Replace the rudder cable pulleys with larger diameter pulleys to eliminate the possibility of further damage.

Was the Public Invited To Comment?

Interested persons were afforded an opportunity to participate in the making of this amendment. We have given due consideration to the comment received.

Comment Disposition

What Is the Commenter's Concern?

Eagle Aircraft Pty. Ltd requests that FAA withdraw the AD because pulley replacement kits to correct the unsafe condition have been shipped to the United States and all affected airplanes models may already be in compliance with this AD.

What Is FAA's Response To the Concern?

We do not concur. Although there may be airplanes on the U.S. Register that have already incorporated the kit installation, the AD is still justified. Issuing an AD is the only way to assure that:

—The installation of the pulley replacement kit is incorporated on any U.S.-registered airplane;

—The actions are accomplished on any airplane that is imported from another country and placed on the U.S. Register; and

—The installation continues to be incorporated on all U.S. registered airplanes.

We have not changed the AD as a result of this comment.

FAA's Determination

What Is FAA's Final Determination on This Issue?

After careful review of all available information related to the subject presented above, we have determined that air safety and the public interest require the adoption of the rule as proposed except for minor editorial corrections. We determined that these minor corrections:

—Will not change the meaning of the AD; and

—Will not add any additional burden upon the public than was already proposed.

Cost Impact

How Many Airplanes Does This AD Impact?

We estimate that this AD affects 5 airplanes in the U.S. registry.

What Is the Cost Impact of This AD on Owners/Operators of the Affected Airplanes?

We estimate the following costs to accomplish the inspection of the rudder cable and replacement of the rudder cable pulley:

Labor cost | Parts cost | Total cost per airplane | Total cost on U.S. operators
5 workhours × $60 | $286 | $586 | $2,930

Replacement cables, if necessary, will cost $305 perairplane. We have no way of determining the number of rudder cables that will be found damaged during the inspection.

Compliance Time of this AD

What Is the Compliance Time of This AD?

The compliance time of this AD will be to accomplish the inspection and rudder cable pulley replacement “within the next 100 hours time-in-service (TIS) after the effective date of this AD” and to accomplish any necessary cable replacement “prior to further flight after the inspection.”

Why Are the Compliance Times of the Australian AD Different From the Compliance Times in This AD?

The Australian AD requires (on Eagle Model 150B airplanes registered in Australia) the inspection within the next 5 hours of service and requires the pulley replacement within 100 hours of operation. These are the compliance times specified in the service information.

We do not have justification to require the inspection within 5 hours of service. We use compliance times such as this when we have identified an urgent safety of flight situation. We believe that 100 hours TIS will give the owners/operators of the affected airplanes enough time to have the inspection and replacement accomplished without compromising the safety of the airplanes.

By accomplishing both the inspection and replacement at the same time, the owners/operators of the affected airplanes only have their airplanes out of service once instead of twice.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2001-09-16 Eagle Aircraft Pty. Ltd.: Amendment 39-12223; Docket No. 2000-CE-22-AD.

(a) What airplanes are affected by this AD? This AD affects Model 150B airplanes, serial numbers 001 through 030, that are certificated in any category.

(b) Who must comply with this AD? Anyone who wishes to operate any of the above airplanes must comply with this AD.

(c) What problem does this AD address? The actions specified by this AD are intended to detect and correct damaged rudder cables caused by chafing of the cable against the pulleys. Continued airplane operation with damaged cables could result in rudder cable system failure with possible loss of airplane control.

(d) What actions must I accomplish to address this problem? To address this problem, you must accomplish the following:

Actions | Compliance | Procedures
(1) Inspect the rudder cables for fraying, broken strands, etc. (referred to as damage) | Within the next 100 hours time-in-service (TIS) after June 29, 2001 (the effective date of this AD) | In accordance with Eagle Service Bulletin No. 1059, dated January 21, 1999.
(2) Replace any rudder cables found damaged during the inspection | Prior to further flight after the inspection | In accordance with the instructions in the maintenance manual, as specified in Eagle Service Bulletin No. 1059, dated January 21, 1999.
(3) Replace the rudder cable pulleys with new rudder cable pulleys, part numbers MS20220-1 and MS20220-2, change pulley attachment, and reduce cable tension | Prior to further flight after the inspection | In accordance with Eagle Service Bulletin No. 1076, Revision 2, dated December 14, 1999.
(4) Do not install any rudder cable pulleys that are not part numbers MS20220-1 and MS20220-2 (with all associated hardware) | As of June 29, 2001 (the effective date of this AD) | Not applicable.

(e) Can I comply with this AD in any other way? You may use an alternative method of compliance or adjust the compliance time if:

(1) Your alternative method of compliance provides an equivalent level of safety; and

(2) The Manager, Los Angeles Aircraft Certification Office (ACO), approves your alternative. Submit your request through an FAA Principal Maintenance Inspector, who may add comments and then send it to the Manager, Los Angeles ACO.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Fredrick A. Guerin, Aerospace Engineer, FAA, Los Angeles Aircraft Certification Office, 3960 Paramount Boulevard, Lakewood, California 90712; telephone: (562) 627-5232; facsimile: (562) 627-5210.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Eagle Service Bulletin No. 1059, dated January 21, 1999, and Eagle Service Bulletin No. 1076, Rev. 2, dated December 14, 1999. The Director of the Federal Register approved this incorporation by reference under 5 U.S.C. 552(a) and 1 CFR part 51. You can get copies from Eagle Aircraft Pty. Ltd., Lot 700 Cockburn Road, Henderson WA 6166 Australia. You can look at copies at the FAA, Central Region, Office of the Regional Counsel, 901 Locust, Room 506, Kansas City, Missouri, or at the Office of the Federal Register, 800 North Capitol Street, NW., suite 700, Washington, DC.

(i) When does this amendment become effective? This amendment becomes effective on June 29, 2001.

Note 2: The subject of this AD is addressed in Australian AD Number X-TS/2, effective December 24, 2000.

Issued in Kansas City, Missouri, on May 1, 2001.
James E. Jackson,
Acting Manager, Small Airplane Directorate, Aircraft Certification Service.

[FR Doc. 01-11457 Filed 5-9-01; 8:45 am]

BILLING CODE 4910-13-P